DEPARTMENT OF ENERGY

Federal Energy Regulatory Commission

[Project No. 14108-001]

Western Minnesota Municipal Power Agency; Notice of Intent To File License Application, Filing of Pre-Application Document, and Approving Use of the Traditional Licensing Process

a. Type of Filing: Notice of Intent to File License Application and Request to Use the Traditional Licensing Process.

b. Project No.: 14108-001.

c. Date Filed: May 7, 2014.

d. Submitted By: Western Minnesota Municipal Power Agency (Western Minnesota).

e. Name of Project: Mississippi River Lock and Dam No.15 Hydroelectric Project.

f. Location: On the Mississippi River, in Scott County, Iowa at an existing lock and dam owned and operated by the U.S. Army Corps of Engineers (Corps). The project would occupy 1.5 acres of federal lands managed by the Corps.

g. Filed Pursuant to: 18 CFR 5.3 of the Commission's regulations.

h. Potential Applicant Contact: Raymond Wahle, Missouri River Energy Services, 3724 W. Avera Drive, P.O. Box 88920, Sioux Falls, South Dakota 57109; phone: (605) 330-6963; email: rwahle@mrenergy.com.

i. FERC Contact: Patrick Ely at (202) 502-8570 or via email at patrick.ely@ferc.gov.

j. Western Minnesota filed its request to use the Traditional Licensing Process on May 7, 2014. Western Minnesota provided public notice of its request on May 20, 2014. In a letter dated June 25, 2014, the Director of the Division of Hydropower Licensing approved Western Minnesota's request to use the Traditional Licensing Process.

k. With this notice, we are initiating informal consultation with: (a) The U.S. Fish and Wildlife Service and/or NOAA Fisheries under section 7 of the Endangered Species Act and the joint agency regulations thereunder at 50 CFR part 402; (b) NOAA Fisheries under section 305(b) of the Magnuson-Stevens Fishery Conservation and Management Act and implementing regulations at 50 CFR 600.920; and (c) the Iowa State Historic Preservation Officer, as required by section 106, National Historical Preservation Act, and the implementing regulations of the Advisory Council on Historic Preservation at 36 CFR 800.2.

l. With this notice, we are designating Western Minnesota as the Commission's non-federal representative for carrying out informal consultation, pursuant to section 7 of the Endangered Species Act, section 305 of the Magnuson-Stevens Fishery Conservation and Management Act, and section 106 of the National Historic Preservation Act.

m. Western Minnesota filed a Pre-Application Document (PAD; including a proposed process plan and schedule) with the Commission, pursuant to 18 CFR 5.6 of the Commission's regulations.

n. A copy of the PAD is available for review at the Commission in the Public Reference Room or may be viewed on the Commission's Web site (http://www.ferc.gov), using the “eLibrary” link. Enter the docket number, excluding the last three digits in the docket number field to access the document. For assistance, contact FERC Online Support at FERCONlineSupport@ferc.gov, (866) 208-3676 (toll free), or (202) 502-8659 (TTY). A copy is also available for inspection and reproduction at the address in paragraph h.

p. Register online at http://www.ferc.gov/docs-filing/esubscription.asp to be notified via email of new filing and issuances related to this or other pending projects. For assistance, contact FERC Online Support.

Dated: June 25, 2014.
Kimberly D. Bose,
Secretary.

[FR Doc. 2014-15406 Filed 6-30-14; 8:45 am]

BILLING CODE 6717-01-P